DEPARTMENT OF TRANSPORTATION

Federal Aviation Administration

14 CFR Part 39

[Docket No. 2002-NE-10-AD; Amendment 39-13213; AD 2003-13-12]

RIN 2120-AA64

Airworthiness Directives; Rolls-Royce plc RB211-22B Series Turbofan Engines

AGENCY: Federal Aviation Administration, DOT.

ACTION: Final rule.

SUMMARY: This amendment adopts a new airworthiness directive (AD) that is applicable to Rolls-Royce plc (RR) RB211-22B series turbofan engines with intermediate pressure (IP) compressor stage 6 to 7 rotor shaft assembly part number (P/N) UL37094 installed. This amendment requires removal from service of IP compressor stage 6 to 7 rotor shaft assemblies P/N UL37094 before reaching newly reduced life limits. This amendment is prompted by the discovery of corrosion during inspection and analysis of IP compressor stage 6 to 7 rotor shaft assemblies returned from the field. The actions specified by this AD are intended to prevent corrosion-induced cracking of the IP compressor stage 6 to 7 rotor shaft assembly, resulting in an uncontained engine failure and damage to the airplane.

DATES: Effective August 1, 2003.

ADDRESSES: The service information referenced in this AD may be obtained from Rolls-Royce plc, P.O. Box 31, Derby, England, DE248BJ; telephone: 011-44-1332-242424; fax: 011-44-1332-245-418. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Ian Dargin, Aerospace Engineer, Engine Certification Office, FAA, Engine and Propeller Directorate, 12 New England Executive Park, Burlington, MA 01803-5299; telephone (781) 238-7178; fax (781) 238-7199.

SUPPLEMENTARY INFORMATION: A proposal to amend part 39 of the Federal Aviation Regulations (14 CFR part 39) to include an AD that is applicable to RR RB211-22B series turbofan engines with IP compressor stage 6 to 7 rotor shaft assembly P/N UL37094 installed was published in the Federal Register on December 2, 2002 (67 FR 71495). That action proposed to require removal from service of IP compressor stage 6 to 7 rotor shaft assemblies P/N UL37094 before reaching newly reduced life limits.

Comments

Interested persons have been afforded an opportunity to participate in the making of this amendment. No comments were received on the proposal or the FAA's determination of the cost to the public. The FAA has determined that air safety and the public interest require the adoption of the rule as proposed.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-13-12 Rolls-Royce plc: Amendment 39-13213. Docket No. 2002-NE-10-AD.

Applicability: This airworthiness directive (AD) is applicable to Rolls-Royce (RR) RB211-22B series turbofan engines with intermediate pressure (IP) compressor stage 6 to 7 rotor shaft assembly part number (P/N) UL37094 installed. These engines are installed on, but not limited to Lockheed Martin L1011 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Compliance with this AD is required as indicated, unless already done.

To prevent corrosion-induced cracking of the IP compressor stage 6 to 7 rotor shaft assembly, resulting in an uncontained engine failure and damage to the airplane, do the following:

(a) For engines that have not incorporated RR service bulletin (SB) 72-8700, remove IP compressor stage 6 to 7 rotor shaft assemblies from service before accumulating 13,500 cycles-since-new (CSN).

(b) For engines that have incorporated RR SB 72-8700, remove IP compressor stage 6 to 7 rotor shaft assemblies from service before accumulating 12,980 CSN.

(c) After the effective date of this AD, do not install any IP compressor stage 6 to 7 rotor shaft assembly, P/N UL37094, that has accumulated the CSN specified in paragraph (a) or (b) of this AD.

Alternative Methods of Compliance

(d) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(e) Special flight permits may be issued in accordance with §§ 21.197 and 21.199 of the Federal Aviation Regulations (14 CFR 21.197 and 21.199) to operate the aircraft to a location where the requirements of this AD can be done.

Effective Date

(f) This amendment becomes effective on August 1, 2003.

Issued in Burlington, Massachusetts, on June 23, 2003.
Francis A. Favara,
Acting Manager, Engine and Propeller Directorate, Aircraft Certification Service.

[FR Doc. 03-16283 Filed 6-26-03; 8:45 am]

BILLING CODE 4910-13-P